DEPARTMENT OF DEFENSE

Department of the Navy

[Docket ID USN-2022-HQ-0009]

Submission for OMB Review; Comment Request

AGENCY: Department of the Navy, Department of Defense (DoD).

ACTION: 30-Day information collection notice.

SUMMARY: The Department of Defense has submitted to OMB for clearance the following proposal for collection of information under the provisions of the Paperwork Reduction Act.

DATES: Consideration will be given to all comments received by August 1, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Personal Information Questionnaire; NAVMC Form 10064; OMB Control Number 0703-0012.

Type of Request: Revision.

Number of Respondents: 3,500.

Responses per Respondent: 1.

Annual Responses: 3,500.

Average Burden per Response: 15 minutes.

Annual Burden Hours: 875.

Needs and Uses: The information collected through NAVMC Form 10064, “Personal Information Questionnaire,” is needed to verify a potential officer candidate's moral character. Information pertaining to an applicant's moral character is of the utmost importance when applying for a program. As a commissioned officer in the United States Marine Corps, these men and women will be expected to lead others by example, upholding the Marine Corps Values of honor, courage, and commitment. The potential applicant provides five character references, via the NAVMC 10064 Personal Information Questionnaire (PIQ), to the Marine Corps Officer Selection Officer (OSO) during the Marine Corps Officer Candidate application. Applicants are advised that PIQs from employers, educators, and other professional individuals are preferred over PIQs from peers, close friends, and neighbors and must be used in lieu of PIQs from relatives. In order to provide an OSO with an accurate and impartial depiction of an applicant's character, the OSO will contact the references and provide the PIQ via email for completion. A sample copy of the accompanying email is included in the package as a supporting document. Once the reference has completed the form, they will sign it electronically and return it to the OSO via email. In limited cases, the respondent may request to hand deliver their response to the OSO or receive/return the PIQ via the U.S. Postal Services. A postage-free envelope is provided to the respondent if required. The OSO ensures the integrity of the PIQ process by not allowing applicants to directly handle PIQ forms.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 24, 2022.
Aaron T. Siegel,
Alternate OSD Federal Register Liaison Officer, Department of Defense.

[FR Doc. 2022-13974 Filed 6-29-22; 8:45 am]

BILLING CODE 5001-06-P